DEPARTMENT OF AGRICULTURE

Submission for OMB Review; Comment Request

December 3, 2008.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Evaluation of the Birth Month Breastfeeding Changes to the WIC Food Packages Study.

OMB Control Number: 0584-NEW.

Summary of Collection: The Special Supplemental Nutrition Program for Women, Infants and Children (WIC), (42 U.S.C. 1786) provides low-income pregnant, breastfeeding, and postpartum women, infants, and children up to age five with nutritious supplemental foods. An Interim Rule was published on December 6, 2007 revising the WIC food packages to align them with the 2005 Dietary Guidelines for Americans and Infant feeding practice guidelines of the American Academy of Pediatrics. The revised food packages for infants and women were designed to strengthen WIC's breastfeeding promotion efforts and provide additional incentives to assist mothers in making the decision to start and continue breastfeeding.

Need and Use of the Information: FNS has designed a study to collect and analyze data to evaluate the impacts that the regulatory changes to WIC food packages have on the incidence, duration, and intensity of breastfeeding. The overarching objective is to assess the effects of the WIC food package Interim Rule to be implemented by local WIC agencies for the first month and subsequent months postpartum. The collected data will cover the following: Food package choices, breastfeeding initiation, breastfeeding duration, breastfeeding intensity, local WIC agency implementation, and WIC participation.

Description of Respondents: State, Local, or Tribal Government; Individuals or households.

Number of Respondents: 1,920.

Frequency of Responses: Report: Other (one-time).

Total Burden Hours: 1,024.

Ruth Brown,
Departmental Information Collection Clearance Officer.

[FR Doc. E8-29042 Filed 12-8-08; 8:45 am]

BILLING CODE 3410-30-P